DEPARTMENT OF AGRICULTURE

Farm Service Agency

Information Collection; Guaranteed Farm Loan Program

AGENCY: Farm Service Agency, USDA.

ACTION: Notice; request for comment.

SUMMARY: In accordance with the Paperwork Reduction Act of 1995, the Farm Service Agency (FSA) is seeking comments from all interested individuals and organizations on the extension and revision of a currently approved information collection associated with the Guaranteed Farm Loan Program. This information collection is used to make and service loans guaranteed by FSA to eligible farmers and ranchers.

DATES: We will consider comments that we receive by October 7, 2013.

ADDRESSES: We invite you to submit comments on this notice. In your comments, include date, volume, and page number of this issue of the Federal Register. You may submit comments by any of the following methods:

• Federal eRulemaking Portal: Go to: www.regulations.gov. Follow the online instructions for submitting comments.

• Mail: Trent Rogers, Senior Loan Specialist, USDA, FSA, Stop 0522, 1400 Independence Avenue SW., Washington, DC 20250.

You may also send comments to the Desk Officer for Agriculture, Office of Information and Regulatory Affairs, Office of Management and Budget, Washington, DC 20503. Copies of the information collection may be requested by contacting Trent Rogers at the above addresses.

FOR FURTHER INFORMATION CONTACT: Trent Rogers, Senior Loan Specialist, (202) 720-3889.

SUPPLEMENTARY INFORMATION:

Description of Information Collection

Title: Guaranteed Farm Loans.

OMB Number: 0560-0155.

Expiration Date of Approval: 01/31/2014.

Type of Request: Extension with revision.

Abstract: This information collected under OMB Number 0560-0155 is needed to effectively administer the FSA guaranteed farm loan programs. The information is collected by the FSA loan official in consultation with participating commercial lenders. The basic objective of the guaranteed loan program is to provide credit to applicants who are unable to obtain credit from lending institutions without a guarantee. The reporting requirements imposed on the public by the regulations at 7 CFR part 762 are necessary to administer the guaranteed loan program in accordance with statutory requirements of the Consolidated Farm and Rural Development Act and are consistent with commonly performed lending practices. Collection of information after loans are made is necessary to protect the Government's financial interest. The revision to the information reflects that the burden hours have decreased due to less usage of interest assistance agreement form because FSA does not have funding for the interest assistance program.

Estimate of Average Time to respond: 62.2 minutes per response. The average travel time, which is included in the total annual burden, is estimated to be 1 hour per respondent.

Type of Respondents: Farmers and ranchers.

Estimated Number of Respondents: 16,100.

Estimated Number of Report Filed per Respondent: 15.1.

Estimated Total Annual Number of Responses: 243,834.

Estimated Total Annual Burden Hours: 252,939.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected; and

(4) Minimize the burden of the collection of information on those who are to respond, including through the use of appropriate automated, electronic, mechanical, or other technological collection techniques or other forms of information technology.

All responses to this notice, including name and addresses when provided, will be summarized and included in the request for OMB approval. All comments will also become a matter of public record.

Signed on July 26, 2013.
Juan M. Garcia,
Administrator, Farm Service Agency.

[FR Doc. 2013-19015 Filed 8-6-13; 8:45 am]

BILLING CODE 3410-05-P